DEPARTMENT OF COMMERCE

National Oceanic and Atmospheric Administration

[I.D. 061900C]

Gulf of Mexico Fishery Management Council; Public Meetings

AGENCY: National Marine Fisheries Service (NMFS), National Oceanic and Atmospheric Administration (NOAA), Commerce.

ACTION: Notice of public meeting; correction.

SUMMARY: The Gulf of Mexico Fishery Management Council published a document in the Federal Register of June 23, 2000, concerning convening of public meetings. This document contained insufficient information.

FOR FURTHER INFORMATION CONTACT: Wayne E. Swingle, Executive Director, Gulf of Mexico Fishery Management Council; telephone: 813-228-2815.

Correction

In the Federal Register of June 23, 2000, in FR Doc. 00-15974, on page 39132, in the first column, under the heading “Monday, July 10, 2000,” first paragraph, last sentence, add the following to read:

“The Committee will hear a NOAA General Counsel legal opinion regarding the stone crab amendment and will discuss possible responses to that legal opinion.”

In the Federal Register of June 23, 2000, in FR Doc. 00-15974, on page 39133, in the second column, under the heading “Tuesday, July 11, 2000,” revise the last paragraph to read:

3:30 p.m.-5 p.m.—Convene the Habitat Protection Committee to hear a presentation on the Williams Gas Pipeline Project, the Gulfstream Gas Pipeline Project, and a review of the proposed Destination Broadwater Draft EIS.

Dated: June 26, 2000.
Richard W. Surdi,
Acting Director, Office of Sustainable Fisheries, National Marine Fisheries Service.

[FR Doc. 00-16508 Filed 6-28-00; 8:45 am]

BILLING CODE 3510-22-F